DEPARTMENT OF COMMERCE

International Trade Administration

[C-507-601]

Certain In-Shell Roasted Pistachios From Iran: Notice of Initiation of New Shipper Countervailing Duty Review

AGENCY: Import Administration, International Trade Administration, Department of Commerce .

SUMMARY: The Department of Commerce (“the Department”) has received a request for a new shipper review of the countervailing duty order on certain in-shell roasted pistachios from Iran. In accordance with our regulations, we are initiating this new shipper review.

EFFECTIVE DATE: November 27, 2001.

FOR FURTHER INFORMATION CONTACT: Eric B. Greynolds or Darla Brown at (202) 482-2786; AD/CVD Enforcement, Office VI, Group II, Import Administration, International Trade Administration, US Department of Commerce, 14th Street and Constitution Avenue, NW., Washington, DC 20230.

Applicable Statute and Regulations

Unless otherwise indicated, all citations to the statute are references to the provisions effective January 1, 1995, the effective date of the amendments made to the Tariff Act of 1930 (“the Act”) by the Uruguay Round Agreements Act. In addition, unless otherwise indicated, all citations to the Department's regulations refer to the regulations codified at 19 CFR part 351 (2001).

SUPPLEMENTARY INFORMATION:

Background

The Department has received a request from Tehran Negah Nima Trading Company, Inc. (“Nima”) to conduct a new shipper review of the countervailing duty order on certain in-shell roasted pistachios, issued October 7, 1986 (51 FR 35679). This request was made pursuant to section 751(a)(2)(B) of the Act and 19 CFR 351.214(b).

On October 31, 2001, Nima also submitted a request for an administrative review of the countervailing duty order on certain in-shell roasted pistachios from Iran, in the event that the Department did not initiate the new shipper review. As we are initiating this new shipper review, we are not initiating an administrative review at this time.

Initiation of Review

Pursuant to 19 CFR 351.214(b), in its request of September 18, 2001, Nima certified that it did not export the subject merchandise to the United States during the period of investigation (“POI”) and that it is not now and never has been affiliated with any exporter or producer who exported the subject merchandise to the United States during the POI. Nima submitted documentation establishing the date on which its merchandise was first entered for consumption in the United States, the volume of that first shipment and the date of its first sale to an unaffiliated customer in the United States.

In accordance with section 751(a)(2)(B) of the Act and section 351.214(d) of the Department's regulations, we are initiating a new shipper review of the countervailing duty order on certain in-shell roasted pistachios from Iran. In accordance with 19 CFR 351.214(h)(i), we intend to issue the preliminary results of this review not later than 180 days from the date of publication of this notice. The Department's regulations state, in 19 CFR 351.214(g)(2), that the period of review (“POR”) for a CVD new shipper review will be the same period as that specified in 19 CFR 351.213.(e)(2), which states that the Department normally will cover entries of subject merchandise during the most recently completed calendar year. However, the Department noted in the Preamble to its Final Regulations that the regulations continue to “provide the Department with sufficient flexibility to resolve any problems that may arise by modifying the standard review period.” Antidumping Duties; Countervailing Duties; Final Rule, 62 FR 27320 (May 19, 1997). The Department's regulations permit a party to file a request for a new shipper review during the six month period preceding the anniversary month and the six month period preceding the semiannual anniversary month. If a calendar year standard is utilized, as noted in the Department's regulations, entries may enter during the current year and be lost from the Department's analysis as a result. Because the Department believes that such a situation would arise in this instance, the POR will begin with the last fiscal quarter of the year 2000 and end with the third fiscal quarter of 2001.

| Period to be reviewed
Countervailing duty proceeding
Iran:
Certain In-shell Roasted Pistachios, C-507-601:
Tehran Negah Nima Trading Company | 10/01/00-09/30/01

Concurrent with publication of this notice, and in accordance with 19 CFR 351.214(e), we will instruct the Customs Service to allow, at the option of the importer, the posting of a bond or security in lieu of a cash deposit for each entry of the merchandise exported by the company listed above, until the completion of the review.

Interested parties may submit applications for disclosure under administrative protective order in accordance with 19 CFR 351.305.

This initiation notice is in accordance with section 751(a) of the Act (19 U.S.C. 1675(a)) and 19 CFR 351.214.

Dated: November 19, 2001.
Bernard T. Carreau,
Deputy Assistant Secretary for Import Administration, Group II.

[FR Doc. 01-29485 Filed 11-26-01; 8:45 am]

BILLING CODE 3510-DS-P